DEPARTMENT OF THE INTERIOR

National Park Service

Minor Boundary Revision at Mesa Verde National Park

AGENCY: National Park Service, Interior.

ACTION: Announcement of Park Boundary Revision.

SUMMARY: This notice announces the revision to the boundary of Mesa Verde National Park to include the parcel of land known as Tract 01-135. The United States will acquire this tract from The Mesa Verde Foundation upon the revision of the boundary. The National Park Service has determined that this boundary revision will make a significant contribution to the purpose for which the Park was created. The effect date of this boundary revision is the date on which this notice is published in the Federal Register.

FOR FURTHER INFORMATION CONTACT: Superintendent, Mesa Verde National Park, P.O. Box 8, Mesa Verde NP, CO 81130-0008 or by telephone at 928-567-5276.

Before including your address, phone number, e-mail address, or other presonal identifying information in your comment, you should be aware that your entire comment—including your personal identifying information—may be made publicly available at any time. While you can ask us in your comment to withhold your personal identifying information from public review, we cannot guarantee that we will be able to do so.

SUPPLEMENTARY INFORMATION: 16 U.S.C. 460l-9(c)(1) provides that after notifying the House Committee on Natural Resources and the Senate Committee on Energy and Resources, the Secretary of the Interior is authorized to make this boundary revision. This action will add one parcel of land comprised of 37.66 acres of land to the Mesa Verde National Park. The National Park Service proposes to acquire his parcel by donation from The Mesa Verde Foundation. This parcel is adjacent to the Park entrance. The acquisition of this parcel is necessary to construct a curatorial storage facility and visitor orientation center for Mesa Verde National Park.

The above parcel is depicted as tract number 01-135 on land status map sheet 1 of 1, having drawing number 307-92000 and dated June 29, 2006. This map is on file at the National Park Service Land Resources Program Center, Intermountain Region, Santa Fe, New Mexico, and at the Office of the Superintendent at Mesa Verde National Park, Mesa Verde, Colorado.

Dated: August 22, 2007.
Michael D. Snyder,
Regional Director, Intermountain Region.

Editor's Note: This document was received by the Federal Register on January 7, 2008.

[FR Doc. 08-59 Filed 1-10-08; 8:45 am]

BILLING CODE 4310-KL-M